FEDERAL COMMUNICATIONS COMMISSION

47 CFR Part 73

[DA 00-1572; MM Docket No. 99-343; RM-9750, BPED-19990630MB]

Radio Broadcasting Services; Elberton, Lavonia and Pendergrass, GA

AGENCY: Federal Communications Commission.

ACTION: Final rule.

SUMMARY: The Commission, at the request of Radio Elberton, Inc., reallots Channel 221A from Elberton, GA, to Lavonia, GA, as the community's first local aural service, and modifies Station WWRK-FM's license accordingly. Channel 221A can be allotted to Lavonia in compliance with the Commission's minimum distance separation requirements with a site restriction of 12.5 kilometers (7.8 miles) west, at coordinates 34-27-26 NL; 83-14-27 WL, to accommodate petitioner's desired transmitter site. This action found that the public interest was better served by the provision of a first local aural service for the more populous community of Lavonia than by the mutually exclusive proposal of Waves of Mercy Productions, Inc., to provide a first local aural service on noncommercial educational FM Channel 220A at Pendergrass, GA (BPED-1990630MB). See 64 FR 70672, December 17, 1999.

DATES: Effective August 28, 2000.

ADDRESSES: Federal Communications Commission, Washington, DC 20554

FOR FURTHER INFORMATION CONTACT: Leslie K. Shapiro, Mass Media Bureau, (202) 418-2180.

SUPPLEMENTARY INFORMATION: This is a synopsis of the Commission's Report and Order, MM Docket No. 99-343, adopted July 5, 2000, and released July 14, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW., Washington, DC 20036.

List of Subjects in 47 CFR Part 73

Radio broadcasting.

Part 73 of title 47 of the Code of Federal Regulations is amended as follows:

PART 73—[AMENDED]

1. The authority citation for part 73 continues to read as follows:

Authority: 47 U.S.C. 154, 303, 334. 336.

§ 73.202 [Amended]

2. Section 73.202(b), the Table of FM Allotments under Georgia, is amended by removing Channel 221A at Elberton and by adding Lavonia, Channel 221A.

Federal Communications Commission.
John A. Karousos,
Chief, Allocations Branch, Policy and Rules Division, Mass Media Bureau.

[FR Doc. 00-18758 Filed 7-24-00; 8:45 am]

BILLING CODE 6712-01-P